DEPARTMENT OF COMMERCE

National Oceanic and Atmospheric Administration

RIN 0648-XD095

Fisheries of the South Atlantic; South Atlantic Fishery Management Council; Public Meeting

AGENCY: National Marine Fisheries Service (NMFS), National Oceanic and Atmospheric Administration (NOAA), Commerce.

ACTION: Meeting of the South Atlantic Fishery Management Council (SAFMC) Oculina Experimental Closed Area Evaluation Team.

SUMMARY: The Oculina Experimental Closed Area Evaluation Team will discuss the Oculina Experimental Closed Area via webinar and a series of breakout sessions. See SUPPLEMENTARY INFORMATION.

DATES: The webinar will be held on Wednesday, March 12, 2014 from 1 p.m. until 4 p.m., and the breakout sessions will occur during the timeframe of March 13 through March 20, 2014.

ADDRESSES: Meeting address: The meeting will be held via webinar. The webinar is open to members of the public. Those interested in participating should contact Anna Martin at the SAFMC (see FOR FURTHER INFORMATION CONTACT below) to request an invitation providing webinar access information. Please request webinar invitations at least 24 hours in advance of the webinar.

Council address: South Atlantic Fishery Management Council, 4055 Faber Place Drive, Suite 201, N. Charleston, SC 29405.

FOR FURTHER INFORMATION CONTACT: Anna Martin, Fishery Biologist; telephone: (843) 571-4366; email: anna.martin@safmc.net.

SUPPLEMENTARY INFORMATION: This webinar was to be held on February 13th, however, due to adverse weather conditions, had to be rescheduled. The original notice published in the Federal Register on January 27, 2014 (79 FR 4335).

The Evaluation Team is comprised of law enforcement representatives, research scientists, resource managers, commercial fishermen, recreational fishermen, outreach experts, and non-governmental organization representatives. The Team is tasked with reviewing and providing recommendations for the ongoing research and monitoring, outreach, and law enforcement components of the Evaluation Plan.

The SAFMC extended the snapper grouper bottom fishing restrictions for the Oculina Experimental Closed Area (OECA) for an indefinite period in Snapper Grouper Amendment 13A. The amendment required that the size and configuration of the OECA be reviewed within three years of the implementation date of 13A and that a 10-year re-evaluation be conducted. The re-evaluation is the subject of this webinar.

The items of discussion during the data webinar are as follows:

1. Participants will initiate discussions on the re-evaluation of the OECA.

2. Breakout sessions will be held with the Evaluation Team to discuss Research & Monitoring, Outreach, and Law Enforcement components of the Evaluation Team.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: February 19, 2014.
Tracey L. Thompson,
Acting Deputy Director, Office of Sustainable Fisheries, National Marine Fisheries Service.

[FR Doc. 2014-03816 Filed 2-21-14; 8:45 am]

BILLING CODE 3510-22-P